DEPARTMENT OF TRANSPORTATION

Federal Aviation Administration

14 CFR Part 71

[Docket No. FAA-2009-1063; Airspace Docket No. 09-ANM-22]

Amendment of Class E Airspace; Hoquiam, WA

AGENCY: Federal Aviation Administration (FAA), DOT.

ACTION: Final rule.

SUMMARY: This action will amend existing Class E airspace at Hoquiam, WA. Controlled Class E surface airspace will be continuous at Bowerman Airport, Hoquiam, WA. The FAA is taking this action to enhance the safety and management of aircraft operations at the airport. This action also will correct the airport name.

DATES: Effective date, 0901 UTC, July 29, 2010. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On December 18, 2009, the FAA published in the Federal Register a notice of proposed rulemaking to amend controlled airspace at Hoquiam, WA (74 FR 67140). Interested parties were invited to participate in this rulemaking effort by submitting written comments on the proposal to the FAA. No comments were received.

Class E airspace designations are published in paragraph 6002 of FAA Order 7400.9T signed August 27, 2009, and effective September 15, 2009, which is incorporated by reference in 14 CFR part 71.1. The Class E airspace designations listed in this document will be published subsequently in that Order.

The Rule

This action amends Title 14 Code of Federal Regulations (14 CFR) part 71 by changing the time of operation of Class E surface area airspace to continuous at Bowerman Airport, thereby removing the specific dates and times as stated in advance by a Notice to Airmen. This action also corrects the airport name from Bowerman Field to Bowerman Airport. This action is necessary for the safety and management of IFR operations.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act. The FAA's authority to issue rules regarding aviation safety is found in Title 49 of the U.S. Code. Subtitle 1, section 106 discusses the authority of the FAA Administrator. Subtitle VII, Aviation Programs, describes in more detail the scope of the agency's authority. This rulemaking is promulgated under the authority described in Subtitle VII, part A, subpart I, section 40103. Under that section, the FAA is charged with prescribing regulations to assign the use of airspace necessary to ensure the safety of aircraft and the efficient use of airspace. This regulation is within the scope of that authority as it amends controlled airspace at Bowerman Airport, Hoquiam, WA.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9T, Airspace Designations and Reporting Points, signed August 27, 2009, and effective September 15, 2009 is amended as follows:

Paragraph 6002. Class E airspace Designated as Surface Areas.

* * * * *

ANM WA E2 Hoquiam, WA [Amended]

Bowerman Airport, WA

(Lat. 46°58′16″ N., long. 123°56′12″ W.)

Within a 4-mile radius of Bowerman Airport, and within 3.5 miles each side of the Bowerman Airport 081° bearing extending from the 4-mile radius to 8.4 miles east of Bowerman Airport, and within 1.4 miles each side of the Bowerman Airport 261° bearing extending from the 4-mile radius to 8.8 miles west of Bowerman Airport.

Issued in Seattle, Washington, on May 14, 2010.
Clark Desing,
Manager, Operations Support Group, Western Service Center.

[FR Doc. 2010-12881 Filed 5-28-10; 8:45 am]

BILLING CODE 4910-13-P